DEPARTMENT OF COMMERCE

National Institute of Standards and Technology

Announcing a Meeting of the Computer System Security and Privacy Advisory Board

AGENCY: National Institute of Standards and Technology, Commerce.

ACTION: Notice of meeting.

SUMMARY: Pursuant to the Federal Advisory Committee Act, 5 U.S.C. App., notice is hereby given that the Computer System Security and Privacy Advisory Board (CSSPAB) will meet Tuesday, September 17, 2002, from 9 a.m. until 5 p.m., Wednesday, September 18, 2002, from 9 a.m. until 5 p.m. and on Thursday, September 19, 2002, from 9 a.m. until 3:30 p.m. All sessions will be open to the public. The Advisory Board was established by the Computer Security Act of 1987 (Pub. L. 100-235) to advise the Secretary of Commerce and the Director of NIST on security and privacy issues pertaining to federal computer systems. Details regarding the Board's activities are available at http://csrc.nist.gov/csspab/.

DATES: The meeting will be held on September 17, 2002, from 9 a.m. until 5 p.m., September 18, 2002, from 9 a.m. until 5 p.m., and September 19, 2002, from 9 a.m. until 3:30 p.m.

ADDRESSES: The meeting will take place at the General Services Administration, 7th and D Streets, SW., Room 5700, Washington, DC.

Agenda

—Welcome and Overview

—Discussion of CSSPAB Privacy Report

—Discussion of CSSPAB Baseline Standards Report

—Updates on Recent Computer Security Legislation

—Update by OMB on Privacy and Security Issues

—Agency Briefing on Compliance with the Government Paperwork Elimination Act (GPEA)

—Discussion of Digital Millennium Copyrights Act Issues

—Agenda Development for December 2002 CSSPAB meeting

—Wrap-Up

Note that agenda items may change without notice because of possible unexpected schedule conflicts of presenters.

Public Participation

The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the CSSPAB Secretariat, Information Technology Laboratory, 100 Bureau Drive, Stop 8930, National Institute of Standards and Technology, Gaithersburg, MD 20899-8930. It would be appreciated if 35 copies of written material were submitted for distribution to the Board and attendees no later than September 12, 2002. Approximately 15 seats will be available for the public and media.

FOR FURTHER INFORMATION CONTACT: Dr. Fran Nielsen, Board Secretariat, Information Technology Laboratory, National Institute of Standards and Technology, 100 Bureau Drive, Stop 8930, Gaithersburg, MD 20899-8930, telephone: (301) 975-3669.

Dated: August 22, 2002.
Karen H. Brown,
Deputy Director.

[FR Doc. 02-22182 Filed 8-29-02; 8:45 am]

BILLING CODE 3510-CN-P